DEPARTMENT OF HOMELAND SECURITY

Coast Guard

33 CFR Part 117

[Docket No. USCG-2015-1119]

Drawbridge Operation Regulation; Inner Harbor Navigation Canal, New Orleans, LA

AGENCY: Coast Guard, DHS.

ACTION: Notice of deviation from drawbridge regulation.

SUMMARY: The Coast Guard has issued a temporary deviation from the operating schedule that governs the US 90 (Danziger) vertical lift span drawbridge across the Inner Harbor Navigation Canal, mile 3.10 at New Orleans, Orleans Parish, Louisiana. The deviation is necessary to conduct field measurements and other preparations for repairs and maintenance that are scheduled for later in the year. This deviation allows the bridge to remain closed-to-navigation for nine days. During this closure, the bridge will open with at least four hours notice except during scheduled curfew times.

DATES: This deviation is effective from 7 p.m. on January 22, 2016, until 7 p.m. on January 31, 2016.

ADDRESSES: The docket for this deviation, [USCG-2015-1119] is available at http://www.regulations.gov.

FOR FURTHER INFORMATION CONTACT: If you have questions on this temporary deviation, call or email Jim Wetherington, Bridge Administration Branch, Coast Guard, telephone (504) 671-2128, email james.r.wetherington@uscg.mil.

SUPPLEMENTARY INFORMATION: The Contractor, C.E.C., Inc., for the Louisiana Department of Transportation and Development (LDOTD), requested a temporary deviation from the operating schedule of the US 90 (Danziger) vertical lift span drawbridge across the Inner Harbor Navigation Canal, mile 3.10 at New Orleans, Orleans Parish, Louisiana. The deviation was requested for the purpose of conducting field measurements and other preparations for repairs and maintenance that are scheduled for later in the year. The vertical clearance of the vertical lift span bridge is 50 feet above mean high water in the closed-to-navigation position and 120 feet in the open-to-navigation position. The bridge is governed by 33 CFR 117.458(b).

This deviation is effective from 7 p.m. on January 22, 2016, until 7 p.m. on January 31, 2016. This deviation allows the bridge to remain closed-to-navigation daily except that the bridge will open if at least four hours notice is given except Monday through Friday from 7 a.m.-8:30 a.m. and from 5 p.m.-6:30 p.m., daily. During the closure period, the contractor will make every effort to minimize the delays to mariners by opening the bridge with less than four hour notice whenever possible. However, the bridge is not required to open with less than a four-hour notice. Marine traffic, when allowed to pass, should pass at the slowest safe speed.

Navigation on the waterway consists of small tugs with and without tows, commercial vessels, and recreational craft, including sailboats.

Vessels able to pass through the bridge in the closed-to-navigation position may do so at anytime. The bridge will be able to open for emergencies, and there is no immediate alternate route. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: January 5, 2016.
David M. Frank,
Bridge Administrator, Eighth Coast Guard District.

[FR Doc. 2016-00268 Filed 1-8-16; 8:45 am]

BILLING CODE 9110-04-P